DEPARTMENT OF THE INTERIOR

Minerals Management Service

30 CFR Part 250

Oil and Gas and Sulphur Operations in the Outer Continental Shelf—Update of Revised/Reaffirmed Documents Incorporated by Reference

AGENCY: Minerals Management Service (MMS), Interior.

ACTION: Technical amendment.

SUMMARY: This document makes technical amendments to regulations that were published in a final rule on December 28, 1999 (64 FR 72756). This amendment incorporates the revision of 10 documents previously incorporated by reference in regulations governing oil and gas and sulfur operations in the Outer Continental Shelf (OCS). The revised editions of these 10 documents will ensure that lessees use the best available and safest technologies while operating in the OCS. Additionally, MMS is acknowledging the reaffirmation of 7 documents previously incorporated by reference in regulations governing oil and gas and sulfur operations in the OCS. The reaffirmation dates issued by the American Petroleum Institute's Manual of Petroleum Measurement Standards will be added to the 7 pertinent documents incorporated by reference.

EFFECTIVE DATE: April 24, 2000.

The incorporation by reference of publications listed in the regulation is approved by the Director of the Federal Register as of April 24, 2000.

FOR FURTHER INFORMATION CONTACT: Frederick Gray at (703) 787-1027.

SUPPLEMENTARY INFORMATION: The revised editions of the documents previously incorporated by reference are: (1) Fourth Edition of the American Petroleum Institute (API) Recommended Practice for Operation and Maintenance of Offshore Cranes (API RP 2D); (2) Sixth Edition of the API Specification for Quality Programs for the Petroleum and Natural Gas Industry (API Spec Q1); (3) Second Edition of the API Manual of Petroleum Measurement Standards (MPMS), Chapter 4, Proving Systems, Section 6, Pulse Interpolation (MPMS, Chapter 4, Section 6); (4) Second Edition of the API MPMS, Chapter 4, Proving Systems, Section 7, Field Standard Test Measures (MPMS, Chapter 4, Section 7); (5) American Society for Testing and Materials (ASTM) Standard Specification for Concrete Aggregates (ASTM Standard C 33-99a); (6) ASTM Standard Specification for Ready-Mixed Concrete (ASTM Standard C 94/C 94M-99); (7) ASTM Standard Specification for Portland Cement (ASTM Standard C 150-99); (8) ASTM Standard Specification for Lightweight Aggregates for Structural Concrete (ASTM Standard C 330-99); (9) ASTM Standard Specification for Blended Hydraulic Cements (ASTM Standard C 595-98); and (10) 1999 Edition of the NACE International Sulfide Stress Cracking Resistant Metallic Materials for Oilfield Equipment (NACE Standard MR0175-99).

MMS has reviewed these documents and has determined that the new editions must be incorporated into the regulations to ensure the use of the best and safest technologies. Our review shows that the changes between the old and new editions result in safety improvements or represent new industry standard technology and will not impose undue cost on the offshore oil and gas industry. Furthermore, the old editions are not readily available to the affected parties because they are out of publication. Therefore, we are amending these documents to incorporate the updated editions according to the authority in 30 CFR 250.198(a)(2). We are updating the appropriate sections of other subparts to reflect these document revisions.

The regulations for cranes and other material-handling equipment on fixed platforms were recently revised under § 250.108 for all operations on the OCS, including those for sulphur. However, crane operations for sulphur leases are also regulated under § 250.1605(g). For consistency, this technical amendment simply revises § 250.1605(g) to specify that sulphur operations follow the requirements in § 250.108 with respect to crane operations.

List of Subjects in 30 CFR Part 250

Continental shelf, Environmental impact statements, Environmental protection, Government contracts, Incorporation by reference, Investigations, Mineral royalties, Oil and gas development and production, Oil and gas exploration, Oil and gas reserves, Penalties, Pipelines, Public lands—mineral resources, Public lands—rights-of-way, Reporting and recordkeeping requirements, Sulphur development and production, Sulphur exploration, Surety bonds.

Accordingly, 30 CFR Part 250 is amended by making the following technical amendments:

PART 250—OIL AND GAS AND SULPHUR OPERATIONS IN THE OUTER CONTINENTAL SHELF

1. The authority citation for part 250 continues to read as follows:

Authority: 43 U.S.C. 1331 et seq.

2. In § 250.198, in the table in paragraph (e), the following changes are made:

A. Remove the entries for ASTM standards C33-93, C94-96, C150-95a, C330-89, C595-94, and NACE standard MR.01-75-96.

B. Add entries for ASTM standards C 33-99a, C 94/C 94M-99, C 150-99, C 330-99, C 595-98 and NACE standard MR0175-99 as set forth below.

C. Revise the remaining entries as set forth below.

§ 250.198 Documents incorporated by reference.

* * * * *

(e) * * *

Title of document | Incorporated by reference at
* * * * * * *
API MPMS, Chapter 4, Section 6, Pulse Interpolation, Second Edition, May 1999, API Stock No. H04062 | § 250.1202(a)(3) and (f)(1).
API MPMS, Chapter, Section 7, Field Standard Test Measures, Second Edition, December 1998, API Stock No. H04072 | § 250.1202(a)(3) and (f)(1).
* * * * * * *
API MPMS, Chapter 5, Section 2, Measurement of Liquid Hydrocarbons by Displacement Meters, Second Edition, November 1987, reaffirmed January 1997, API Stock No. H30102 | § 250.1202(a)(3).
* * * * * * *
API MPMS, Chapter 5, Section 5, Fidelity and Security of Flow Measurement Pulsed-Data Transmission Systems, First Edition, June 1982, reaffirmed January 1997, API Stock No. H30105 | § 250.1202(a)(3).
* * * * * * *
API MPMS, Chapter 6, Section 7, Metering Viscous Hydrocarbons, Sescond Edition, May 1991, reaffirmed July 1996, API Stock No. H30127 | § 250.1202(a)(3).
* * * * * * *
API MPMS, Chapter 9, Density Determination, Section 1, Hydrometer Test Method for Density, Relative Density (Specific Gravity), or API Gravity of Crude Petroleum and Liquid Petroleum Products, First Edition, June 1981, reaffirmed December 1998, API Stock No. H30181; also available as ANSI/ASTM D 1298 | § 250.1202(a)(3) and (1)(4).
API MPMS, Chapter 9, Section 2, Pressure Hydrometer Test Method for Density or Relative Density, First Edition, April 1982, reaffirmed December 1998, API Stock No. H30182 | § 250.1202(a)(3) and (1)(4).
* * * * * * *
API MPMS, Chapter 11.2.2, Compressibility Factors for Hydrocarbons: 0.350-0.637 Relative Density (60°F/60°F) and −50°F to 140°F Metering Temperature, Second Edition, October 1986, reaffirmed March 1997, API Stock No. H27307; also available as Gas Processors Association (GPA) 8286 | § 250.1202(a)(3) and (g)(4).
* * * * * * *
API MPMS, Chapter 14, Section 3, Part 3, Natural Gas Applications, Third Edition, August 1992, reaffirmed December 1998, API Stock No. H30353; also available as ANS/API 2530, Part 3 | § 250.1203(b)(2).
* * * * * * *
API RP 2D, Recommended practice for Operation and Maintenance of Offshore Cranes, Fourth Edition, August 1, 1999. API Stock No. G02D04 | § 250.108(a)(1).
* * * * * * *
API Spec Q1, Specification for Quality Programs for the Petroleum and Natural Gas Industry, Sixth Edition, March 1, 1999. API Stock No. GQ1006 | § 250.806(a)(2)(ii).
* * * * * * *
ASTM Standard C 33-99a. Standard Specification for Concrete Aggregates | § 250.908(b)(4)(i).
ASTM Standard C 94/C 94M-99, Standard Specification for Ready-Mixed Concrete | § 250.908(e)(2)(i).
ASTM Standard C 150-99, Standard Specification for Portland Cement | § 250.908(b)(2)(i).
ASTM Standard C 330-99, Standard Specification for Lightweight Aggregates for Structural Concrete | § 250.908(b)(4)(i).
ASTM Standard C 595-98, Standard Specification for Blended Hydraulic Cements | § 250.908(b)(2)(i).
* * * * * * *
NACE Standard MR0175-99, Sulfide Stress Cracking Resistant Metallic Materials for Oilfield Equipment, Revised January 1999, NACE Item No. 21302 | § 250.417(p)(2).
* * * * * * *

3. In § 250.417, paragraph (p)(2) is revised to read as follows:

§ 250.417 Hydrogen sulfide.

* * * * *

(p) * * *

(2) Use BOP system components, wellhead, pressure-control equipment, and related equipment exposed to H2S-bearing fluids that conform to NACE Standard MR0175-99.

* * * * *

4. In § 250.908, paragraphs (b)(2)(i), (b)(4)(i), and (e)(2)(i) are revised to read as follows:

§ 250.908 Concrete-gravity platforms.

* * * * *

(b) * * *

(2) * * *

(i) Cement must be equivalent to Type I, II, or III portland cement as specified by ASTM Standard C 150-99, Standard Specification for Portland Cement, or portland-pozzolan cement as specified by ASTM Standard C 595-98, Standard Specification for Blended Hydraulic Cements. However, the suitability of Type III cement to serve its intended function must be demonstrated.

(4) * * *

(i) Aggregates must conform to the requirements of ASTM Standard C 33-99a, Standard Specification for Concrete Aggregates. Lightweight aggregates conforming to ASTM Standard C 330-99, Standard Specification for Lightweight Aggregates for Structural Concrete, will only be permitted if they do not pose durability problems and where they are used according to the applicable provisions of the ACI publication, ACI Standard 318, Building Code Requirements for Reinforced Concrete, plus Commentary.

* * * * *

(e) * * *

(2) * * *

(i) Mixing of concrete must conform to the requirements of ACI Standard 318 and ASTM Standard C 94/C 94M-99, Standard Specification for Ready-Mixed Concrete;

* * * * *

5. In § 250.1605, paragraph (g) is revised to read as follows:

§ 250.1605 Drilling requirements.

* * * * *

(g) Crane operations. You must operate a crane installed on fixed platforms according to § 250.108 of this subpart.

* * * * *

Dated: March 16, 2000.
E. P. Danenberger,
Chief, Engineering and Operations Division.

[FR Doc. 00-7267 Filed 3-23-00; 8:45 am]

BILLING CODE 4310-MR-P